NUCLEAR REGULATORY COMMISSION

[NRC-2014-0166]

Design Response Spectra for Seismic Design of Nuclear Power Plants

AGENCY: Nuclear Regulatory Commission.

ACTION: Regulatory guide; issuance.

SUMMARY: The U.S. Nuclear Regulatory Commission (NRC) is issuing Revision 2 to Regulatory Guide (RG) 1.60, “Design Response Spectra for Seismic Design of Nuclear Power Plants.” The NRC is issuing this revision without a public-comment period because there are only minor modifications with no substantive changes in the staff regulatory positions. This guide describes an approach that the NRC staff considers acceptable for defining response spectra for the seismic design of nuclear power plants.

ADDRESSES: Please refer to Docket ID NRC-2014-0166 when contacting the NRC about the availability of information regarding this document. You may obtain publicly-available information related to this action by the following methods:

• Federal Rulemaking Web site: Go to http://www.regulations.gov and search for Docket ID NRC-2014-0166. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Revision 2 of RG 1.60 is available in ADAMS under Accession No. ML13210A432.

• NRC's PDR: You may examine and purchase copies of public documents at the NRC's PDR, O1-F21, One White Flint North, 11555 Rockville Pike, Rockville, Maryland 20852.

Regulatory guides are not copyrighted, and NRC approval is not required to reproduce them.

FOR FURTHER INFORMATION CONTACT: Sarah Tabatabai, Office of New Reactors, telephone: 301-415-1381, email: Sarah.Tabatabai@nrc.gov; or Edward O'Donnell, Office of Nuclear Regulatory Research, telephone: 301-251-7455, email: Edward.ODonnell@nrc.gov. Both are staff of the U.S. Nuclear Regulatory Commission, Washington, DC 20555-0001.

SUPPLEMENTARY INFORMATION:

I. Introduction

The NRC is issuing a revision to an existing guide in the NRC's “Regulatory Guide” series. Regulatory guides were developed to describe and make available to the public information methods that are acceptable to the NRC staff for implementing specific parts of the agency's regulations, techniques that the staff uses in evaluating specific problems or postulated accidents, and data that the staff needs in its review of applications for permits and licenses. The NRC typically seeks public comment on a draft version of a regulatory guide by announcing its availability for comment in the Federal Register. However, as explained in section III F of the Handbook for NRC Management Directive 6.6, “Regulatory Guides,” (ADAMS Accession No. ML110330475) the NRC may directly issue a final regulatory guide without a draft version or public comment period if the changes to the regulatory guide are non-substantive.

The NRC is issuing Revision 2 of RG 1.60 directly as a final regulatory guide because the changes between Revision 1 and Revision 2 are non-substantive. The main reason for this revision was to update the reference materials, along with adding the ADAMS accession numbers, for the key technical basis documents in the reference section to facilitate public access to those documents.

II. Backfitting and Issue Finality

Issuance of this final regulatory guide does not constitute backfitting as defined in 10 CFR 50.109 (the Backfit Rule) and is not otherwise inconsistent with the issue finality provisions in 10 CFR part 52. The changes in Revision 2 of RG 1.60 are limited to editorial changes to improve clarity, to update references, and to facilitate public access to key technical basis documents. These changes do not fall within the kinds of agency actions that constitute backfitting or are subject to limitations in the issue finality provisions of part 52. Accordingly, the NRC did not address the Backfit Rule or issue finality provisions of part 52.

III. Congressional Review Act

This action is not a rule as defined in the Congressional Review Act (5 U.S.C. 801-808).

IV. Submitting Suggestions for Improvement of Regulatory Guides

Revision 2 of RG 1.60 is being issued without public comment. However, you may at any time submit suggestions to the NRC for improvement of existing regulatory guides or for the development of new regulatory guides to address new issues. Suggestions can be submitted by the form available online at http://www.nrc.gov/reading-rm/doc-collections/reg-guides/contactus.html. Suggestions will be considered in future updates and enhancements of the regulatory guide.

Dated at Rockville, Maryland, this 8th day of July, 2014.
For the Nuclear Regulatory Commission.
Harriet Karagiannis,
Acting Chief, Regulatory Guide Development Branch, Division of Engineering, Office of Nuclear Regulatory Research.

[FR Doc. 2014-16297 Filed 7-11-14; 8:45 am]

BILLING CODE 7590-01-P